DEPARTMENT OF THE INTERIOR

Bureau of Land Management

[WO-350-1430-PE-24 1A]

Extension of Approved Information Collection, OMB Control Number 1004-0009

AGENCY: Bureau of Land Management, Interior.

ACTION: Notice and request for comments.

SUMMARY: The Bureau of Land Management (BLM) has submitted an Information Collection Request (ICR) to OMB for review and approval. The ICR is scheduled to expire on December 31, 2007. The BLM may not conduct or sponsor and a person is not required to respond to a collection of information unless it displays a currently valid OMB control number. However, under OMB regulations, the BLM may continue to conduct or sponsor this information collection while it is pending at OMB. On June 21, 2006, the BLM published a notice in the Federal Register (71 FR 35698) requesting comment on this information collection. The comment period ended on August 21, 2006. The BLM received no comments. You may obtain copies of the collection of information and related forms and explanatory material by contacting the BLM Information Collection Clearance Officer at the telephone number listed in the ADDRESSES section below.

DATES: The OMB is required to respond to this request within 60 days but may respond after 30 days. Submit your comments to OMB at the address below by January 28, 2008 to receive maximum consideration.

ADDRESSES: Send your comments and suggestions on this ICR to the Desk Officer for the Department of the Interior at OMB-OIRA at (202) 395-6566 (fax) or OIRA_DOCKET@OMB.eop.gov (e-mail). Please provide a copy of your comments to Alexandra Ritchie, Information Collection Clearance Officer, Bureau of Land Management, at U.S. Department of the Interior, Bureau of Land Management, Mail Stop 401LS, 1849 C Street, NW., Washington, DC 20240. Additionally, you may contact Alexandra Ritchie regarding this ICR at (202) 452-0388 (phone); (202) 653-5287 (fax); or Alexandra_Ritchie@blm.gov (e-mail).

FOR FURTHER INFORMATION CONTACT: For program-related questions, contact Alzata L. Ransom, Realty Use Group, on (202) 452-7772 (Commercial or FTS). Persons who use a telecommunications device for the deaf (TDD) may call the Federal Information Relay Service (FIRS) at 1-800-877-8330, 24 hours a day, 7 days a week, to contact Ms. Ransom. For questions regarding this ICR or the information collection process, contact Alexandra Ritchie by phone, mail, fax, or e-mail (see ADDRESSES).

SUPPLEMENTARY INFORMATION: OMB Control Number: 1004-0009.

Title: Land Use Application and Permit, 43 CFR 2920.

Bureau Form Number: 2920-1.

Type of Request: Extension of currently approved collection.

Affected Public: Private Citizens, Businesses, and State and Local Governments.

Respondent's Obligation: Required to obtain or retain a benefit.

Frequency of Collection: On occasion.

Estimated Annual Number of Responses: 519.

Estimated Time per Response: 1 hour per response for land use authorizations that will cause little or no damage to the public lands and resources; 120 hours for authorizations that may cause considerable damage or disturbance to the public lands and resources.

Estimated Total Annual Burden Hours: 1,709.

Abstract: The BLM uses the information to allow State and local governments, businesses, and private citizens to use, occupy, or develop the public lands under certain conditions. Land uses that may be authorized are: agricultural development, residential (under certain conditions), recreation concessions (under certain conditions), and business, industrial, and commercial. The types of land uses include commercial filming, advertising displays, commercial or noncommercial croplands, apiaries, livestock, holding or feeding areas not related to grazing permits and leases, harvesting of native or introduced species, temporary or permanent facilities for commercial purposes (does not include mining claims), ski resorts, construction equipment storage sites, assembly yards, oil rig stacking sites, mining claim occupancy if the residential structures are not incidental to the mining operation, and water pipelines and well pumps related to irrigation and non-irrigation facilities.

We estimate that it will take a respondent 1 hour to complete an application for a land use authorization that will cause little or no damage or disturbance to the public lands and resources. Ninety-eight percent of land use authorization respondents are in this category. It will take a respondent 120 hours to complete an application for complex land use authorization proposals that will cause considerable damage or disturbance to the public lands and resources. Two percent of land use authorization respondents are in this category. The majority of the complex land use authorizations are from the major motion picture film industry. The BLM did not receive any responses in this last category during the current collection period. The average annual application processing fee for this entire collection (complex and less complex authorization proposals) is $148,933.28.

We again specifically request your comments on the following:

1. Whether the collection of information is necessary for the proper functioning of the BLM, including whether the information will have practical utility;

2. The accuracy of BLM's estimate of the burden of collecting the information, including the validity of the methodology and assumptions used;

3. The quality, utility and clarity of the information we collect; and

4. How to minimize the burden of collecting the information on those who are to respond, including the use of appropriate automated electronic, mechanical, or other forms of information technology.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: December 21, 2007.
Alexandra Ritchie,
Bureau of Land Management, Information Collection Clearance Officer.

[FR Doc. E7-25217 Filed 12-27-07; 8:45 am]

BILLING CODE 4310-84-P